DEPARTMENT OF TRANSPORTATION

Pipeline and Hazardous Materials Safety Administration

Pipeline Safety: Requests for Waivers of Compliance (Special Permits)

AGENCY: Pipeline and Hazardous Materials Safety Administration (PHMSA); DOT.

ACTION: Notice.

SUMMARY: The federal pipeline safety laws allow a pipeline operator to request PHMSA to waive compliance with any part of the federal pipeline safety regulations. We are publishing this notice to provide a list of requests we have received from pipeline operators seeking relief from compliance with certain pipeline safety regulations. This notice seeks public comment on these requests, including comments on any environmental impacts. In addition, this notice informs the public that we are changing what we will call a decision granting such a request to a special permit. At the conclusion of the comment period, PHMSA will evaluate each request individually to determine whether to grant a special permit or deny the request.

DATES: Submit any comments regarding any of these requests for special permit by March 12, 2007.

ADDRESSES: Comments should reference the docket number for the request and may be submitted in the following ways:

• DOT Web Site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW, Washington, DC between 9 a.m. and 5 p.m., Monday through Friday, except Federal holidays.

• E-Gov Web Site: http://www.Regulations.gov. This site allows the public to enter comments on any Federal Register notice issued by any agency.

Instructions: You should identify the docket number for the request you are commenting on at the beginning of your comments. If you submit your comments by mail, you should submit two copies. If you wish to receive confirmation that PHMSA received your comments, you should include a self-addressed stamped postcard. Internet users may submit comments at http://www.Regulations.gov, and may access all comments received by DOT at http://dms.dot.gov by performing a simple search for the docket number.

Note: All comments will be posted without changes or edits to http://dms.dot.gov including any personal information provided.

Privacy Act Statement: Anyone may search the electronic form of all comments received for any of our dockets. You may review DOT's complete Privacy Act Statement in the Federal Register published on April 11, 2000 (65 FR 19477) or you may visit http://dms.dot.gov.

FOR FURTHER INFORMATION CONTACT: Wayne Lemoi by telephone at (404) 832-1160; or, e-mail at wayne.lemoi@dot.gov.

SUPPLEMENTARY INFORMATION:

Change in Nomenclature

PHMSA is changing the name of a decision we make granting a request for waiver of compliance from “decision granting waiver” to “special permit” to reflect that granting the request will not reduce safety. We commonly add safety conditions to decisions granting waivers to ensure that waiving compliance with an existing pipeline safety standard is consistent with pipeline safety. This is simply a name change for a decision granting waiver under 49 U.S.C. 60118(c)(1). To avoid confusion, we will continue to process requests for waiver on which we have already begun work under the old nomenclature.

Comments Invited on Requests for Waiver

PHMSA has filed in DOT's Docket Management System (DMS) requests for waiver we have received from pipeline operators seeking relief from compliance with certain pipeline safety regulations. Each request has been assigned a separate docket number in the DMS. We invite interested persons to participate by reviewing these requests and by submitting written comments, data or other views. Please include any comments on environmental impacts granting the requests may have.

Before acting on any request, PHMSA will evaluate all comments received on or before the comment closing date. We will consider comments received after this date if it is possible to do so without incurring additional expense or delay. We may grant or deny these requests based on the comments we receive.

PHMSA has received the following requests for waivers of compliance with pipeline safety regulations.

Docket Number | Requester | Regulation(s) | Nature of Waiver
PHMSA-2006-25802 | CenterPoint Energy as Transmission | 49 CFR 192.111, 49 CFR 192.201, 49 CFR 192.619 | To authorize operation of a 172-mile gas transmission pipeline from Carthage, TX to Perryville, LA at a maximum allowable operating pressure (MAOP) of 80% of the specified minimum yield strength (SMYS).
PHMSA-2006-26533 | Gulf South Pipeline | 49 CFR 192.111, 49 CFR 192.201, 49 CFR 192.619 | To authorize operation of certain segments of a proposed gas transmission pipeline from Carthage, TX to Harrisville, MS at a MAOP of 80% of SMYS.
PHMSA-2006-26616 | Ozark Gas Transmission | 49 CFR 192.111, 49 CFR 192.201, 49 CFR 192.619 | To authorize operation of certain segments of a 233-mile gas transmission pipeline (East End Expansion Project) in Arkansas and Mississippi at a MAOP of 80% of SMYS.
PHMSA-2007-27121 | Transwestern Pipeline Company, L.L.C | 49 CFR 192.111, 49 CFR 192.201, 49 CFR 192.505, 49 CFR 192.619 | To authorize operation of a 205-mile gas transmission pipeline from La Plata, CO to Gallup, NM at a MAOP of 80% of SMYS.
PHMSA-2006-26530 | Alyeska Pipeline Service Company | 49 CFR 192.463, 192.465 & Appendix D of Part 192 | To authorize operation of a 148-mile gas pipeline from Prudhoe Bay, AK to a pump station in the Brooks Mountain range, AK without applying and monitoring external cathodic protection.
PHMSA-2006-26528 | Dominion Transmission, Inc | 49 CFR 192.611 | To authorize operation of 5,722 ft of a gas transmission pipeline between Loudon and Quantico, VA without reducing operating pressure as a result of a change from a Class 1 to a Class 3 location.
PHMSA-2007-27122 | Spectra Energy Transmission (formerly Duke Energy Gas Transmission) | 49 CFR 192.611 | To authorize operation of 2 parallel gas lines in Westmoreland County, PA without reducing operating pressure as a result of changes from Class 1 to Class 2 locations.
PHMSA-2006-26612 | Tennessee Gas Pipeline | 49 CFR 192.611 | To authorize operation of 2 parallel gas lines in Jasper and Lowndes Counties, MS without reducing operating pressure as a result of changes from Class 2 to Class 3 locations.
PHMSA-2006-26618 | Tennessee Gas Pipeline | 49 CFR 192.611 | To authorize operation of one pipeline valve section on the Niagara Spur Loop Line, a gas transmission pipeline in upstate New York, without reducing operating pressure required as a result of a change from a Class 1 to a Class 3 location.
PHMSA-2006-26611 | Texas Gas Transmission, LLC | 49 CFR 192.611 | To authorize operation of 3 parallel gas lines near Lafayette, LA and 2 parallel gas lines near Louisville, KY without reducing operating pressure as a result of changes from Class 1 to Class 3 locations.
PHMSA-2006-26531 | Williams Gas Pipeline | 49 CFR 192.611 | To authorize operation of 2 segments of gas pipelines in Coweta, Fayette and Oconee Counties Georgia without reducing operating pressure as a result of changes from Class 2 to Class 3 locations.
PHMSA-2006-26615 | Texas Gas Transmission, LLC | 49 CFR 192.612 | To extend the required completion date of repairs to 5 areas of gas transmission pipeline with depths-of-cover less than 12-inches in Terrebonne Parish, LA and federal offshore waters from November 1, 2006 to March 31, 2007.
PHMSA-2006-26532 | Chesapeake Appalachia, L.L.C. (formerly Columbia Natural Resources) | 49 CFR 192.619 | To authorize Chesapeake to establish the MAOP of various segments of its gas gathering pipeline system in Kentucky and West Virginia using a 5 year operating history.
PHMSA-2006-26614 | Northern Natural Gas Company | 49 CFR 192.625 | To authorize operation of the St. Joseph, MN distribution pipeline without injecting odorant into the gas stream.
PHMSA-2006-26617 | TransCanada Keystone Pipeline, LP | 49 CFR 195.106, 49 CFR 195.406 | To authorize operation of a 1,369-mile crude oil pipeline from the Canadian border near Cavalier County, ND to Payne County, OK at a MAOP of 80% of SMYS.
PHMSA-2006-26613 | BP Exploration (Alaska) Inc | 49 CFR 195.424 | To authorize movement of certain above ground hazardous liquid pipeline sections during routine inspection and maintenance activities without reducing the operating pressure on approximately 150 miles of hazardous liquid pipelines in the North Slope of Alaska.
PHMSA-2006-26529 | ConocoPhillips Alaska Pipeline | 49 CFR 195.424 | To authorize movement of certain above ground hazardous liquid pipeline sections during routine inspection and maintenance activities without reducing the operating pressure on approximately 100 miles of hazardous liquid pipelines in the North Slope of Alaska.
PHMSA-2007-27120 | ExxonMobil Pipeline Company | 49 CFR 195.452(h) | To authorize operation of a 36.3-mile crude oil pipeline from South Bend to New Iberia, LA at a reduced operating pressure in lieu of repairing certain anomalies discovered during an in-line inspection.

Authority: 49 U.S.C. 60118 (c)(1) and 49 CFR 1.53.

Issued in Washington, DC on February 2, 2007.
Jeffrey D. Wiese,
Acting Associate Administrator for Pipeline Safety.

[FR Doc. E7-2094 Filed 2-7-07; 8:45 am]

BILLING CODE 4910-60-P